GENERAL SERVICES ADMINISTRATION

[OMB Control No. 3090-0302; Docket No. 2013-0001; Sequence 9]

General Services Administration Acquisition Regulation; Submission for OMB Review; Modifications (Federal Supply Schedules)

AGENCY: Office of Acquisition Policy, General Services Administration (GSA).

ACTION: Notice of request for public comments on an information collection requirement for an OMB clearance.

SUMMARY: Under the provisions of the Paperwork Reduction Act, the Regulatory Secretariat will be submitting to the Office of Management and Budget (OMB) a request to review and approve an information collection requirement regarding the Modifications (Federal Supply Schedule) clause.

DATES: Submit comments on or before: October 17, 2013.

FOR FURTHER INFORMATION CONTACT: Ms. Dana Munson, General Services Acquisition Policy Division, GSA, 202-357-9652 or email Dana.Munson@gsa.gov for clarification of content. For information pertaining to status or publication schedules, contact the Regulatory Secretariat at 202-501-4755. Please cite information collection 3090-0302.

ADDRESSES: Submit comments identified by Information Collection 3090-0302, Modifications, by any of the following methods:

• Regulations.gov: http://www.regulations.gov. Submit comments via the Federal eRulemaking portal by searching for “Information Collection 3090-0302, Modifications.” Select the link “Submit a Comment” that corresponds with “Information Collection 3090-0302, Modifications.” Follow the instructions provided at the “Submit a Comment” screen. Please include your name, company name (if any), and “Information Collection 3090-0302, Modifications,” on your attached document.

• Fax: 202-501-4067.

• Mail: General Services Administration, Regulatory Secretariat (MVCB), 1800 F Street NW., Washington, DC 20405. ATTN: Hada Flowers/IC 3090-0302, Information Collection 3090-0302, Modifications.

Instructions:

• Submit comments including suggestions for reducing this burden to: FAR Desk Officer, OMB, Room 10102, NEOB, Washington, DC 20503, and a copy to the General Services Administration, Regulatory Secretariat Division (MVCB), 2250C, 1800 F Street NW., Washington, DC 20405.

• Please submit comments only and cite Information Collection 3090-0302, Modifications, in all correspondence related to this collection. All comments received will be posted without change to http://www.regulations.gov, including any personal and/or business confidential information provided.

SUPPLEMENTARY INFORMATION:

A. Purpose

GSA is proposing to amend the General Services Administration Acquisition Regulation (GSAR) to add clause 552.243-81 Modifications (Federal Supply Schedule) and an Alternate I version of the clause that requires electronic submission of modifications for FSS contracts managed by GSA. Under the modifications clause, vendors may request a contract modification by submitting a request to the Contracting Officer for approval. At a minimum, every request shall describe the proposed change(s) and provide the rationale for the requested change(s).

The initial clause, previously at GSAR 552.243-72 Modifications (Multiple Award Schedule), is being reinstated at GSAR 552.238-81, Modifications (Federal Supply Schedule).

The alternate version of the clause implements and mandates electronic submission of modifications, and only applies to FSS contracts managed by GSA. The alternate version of the clause links to GSA's electronic tool, eMod at http://eoffer.gsa.gov/. Use of eMod will streamline the modification submission process for both FSS contractors and contracting officers.

The Department of Veterans Affairs (VA) does not have access to eMod, and is therefore not required to comply with the requirements of the Alternate I version of GSAR clause 552.238-81, Modifications (Federal Supply Schedule). VA will continue to utilize the basic version of the clause in management of their FSS contracts.

B. Discussion and Analysis

A notice for this collection was published in the Federal Register at 78 FR 31879, on May 28, 2013. One comment was received that was outside the scope of the notice.

As a result, no change to the burden estimate for this collection was made.

Public Comments

Public comments are particularly invited on: Whether this collection of information is necessary for the proper performance of functions of the GSAR, and will have practical utility; whether our estimate of the public burden of this collection of information is accurate, and based on valid assumptions and methodology; ways to enhance the quality, utility, and clarity of the information to be collected; and ways in which we can minimize the burden of appropriate technological collection techniques or other forms of information technology.

C. Annual Reporting Burden

The annual reporting burden is estimated as follows:

552.238-81 Modifications (Federal Supply Schedule)

Respondents: 1,500.

Responses per Respondent: 3.

Total Responses: 4,500.

Hours per Response: 5.

Total Burden Hours: 22,500.

552.238-81 Modifications Alternate I (Federal Supply Schedule)

Estimated Respondents/yr: 19,000.

Number of Submissions per Respondent: 3.

Total Responses: 57,000.

Estimated Hours/Response: 4.

Total Burden Hours: 228,000.

Obtaining Copies of Proposals

Requesters may obtain a copy of the information collection documents from the General Services Administration, Regulatory Secretariat (MVCB), 1800 F Street NW., Washington, DC 20405; telephone 202-501-4755. Please cite OMB Control No. 3090-0302, “Modifications” in all correspondence.

Dated: September 11, 2013.
Laura Auletta,
Acting Senior Procurement Executive, Office of Acquisition Policy.

[FR Doc. 2013-22526 Filed 9-16-13; 8:45 am]

BILLING CODE 6820-61-P